DEPARTMENT OF HEALTH AND HUMAN SERVICES

Request for Comments on the Proposed 2020 Targets for the National Action Plan To Prevent Health Care-Associated Infections: Road Map To Elimination (Phase I: Acute Care Hospital) Measures

AGENCY: Office of Disease Prevention and Health Promotion, Office of the Assistant Secretary for Health, Office of the Secretary, Department of Health and Human Services.

ACTION: Notice.

SUMMARY: The Office of Disease Prevention and Health Promotion (ODPHP), on behalf of the U.S. Department of Health and Human Services' (HHS) Federal Steering Committee for the Prevention of Health Care-Associated Infections (HAI), proposes new targets for the acute care hospital measures for the National Action Plan to Prevent Health Care-Associated Infections: Road Map to Elimination (HAI Action Plan). The five-year targets identified in the initial HAI Action Plan expired at the end of 2013; therefore, new targets are being proposed, taking into consideration the progress made since the HAI Action Plan was initially released in 2009. Similar to the initial HAI Action Plan, the proposed targets will reflect improvement efforts over a five-year period. As such, the Department is proposing a baseline of January 2015 and individualized targets for each of the health care-associated infections identified in the HAI Action Plan to be achieved by December 2020.

HHS invites public and private health-related professionals, organizations, and consumer representatives to submit written comments on the proposed 2020 HAI acute care hospital targets, found at http://www.health.gov/hai/prevent_hai.asp#hai_measures.

DATES: Comments on the proposed HAI 2020 acute care hospital targets must be received no later than 5 p.m. on March 27, 2014.

ADDRESSES: Interested persons or organizations are invited to submit written comments by any of the following methods:

• Email: ohq@hhs.gov.

• Mail/Courier: Office of Disease Prevention and Health Promotion, Attn: Division of Health Care Quality, Department of Health and Human Services, 1101 Wootton Parkway, Suite LL100, Rockville, MD 20852.

FOR FURTHER INFORMATION CONTACT: Daniel Gallardo, Health Policy Fellow, Office of Disease Prevention and Health Promotion via electronic mail at ohq@hhs.gov.

SUPPLEMENTARY INFORMATION: In recognition of HAIs as an important public health and patient safety issue, in July 2008 HHS established the Federal Steering Committee for the Prevention of Health Care-Associated Infections, led by Dr. Don Wright, Deputy Assistant Secretary for Health, Disease Prevention and Health Promotion. The Steering Committee was charged with developing a comprehensive strategy to prevent and reduce HAIs and developing a plan which established national five-year targeted goals for HAI prevention and outlined key actions for achieving identified short- and long-term objectives.

The first iteration of the HAI Action Plan was published in 2009 and focused on addressing six high priority HAI-related areas within the acute care hospital setting: Surgical site infections, central line-associated bloodstream infections, ventilator-associated events (formerly ventilator-associated pneumonia), catheter-associated urinary tract infections, Clostridium difficile infections, and methicillin-resistant Staphylococcus aureus infections.

In April 2013, ODPHP, on behalf of the Steering Committee, released a revised HAI Action Plan reflecting a significant update and expansion from the initial version. In addition to documenting the progress toward achieving the original five-year acute care hospital HAI targets, the updated HAI Action Plan included new sections specific to infection reduction in ambulatory surgical centers, end-stage renal disease facilities, and long-term care facilities, as well as a section on increasing influenza vaccination of health care personnel.

With the expiration of the HAI Action Plan acute care hospitals time period for measuring the initial goals occurring at the end of 2013, the Steering Committee has identified new five-year goals to measure national progress in HAI reduction. The new goals will continue to use data from the Centers for Disease Control and Prevention's National Healthcare Safety Network (NHSN) as well as data from the Agency for Healthcare Research and Quality's Healthcare Cost and Utilization Program (HCUP). The new targets will set baseline rates using data from 2015 and establish goals to be achieved by December 2020. The proposed targets take into account HAI reductions to date and will reflect progress that takes place between 2013 and 2015. Selecting a single baseline year for measuring progress toward the targeted goals in acute care hospitals—and using that same baseline year for purposes of quality measure reporting to the Centers for Medicare and Medicaid Services (CMS) and public reporting on CMS's Hospital Compare Web site—will improve consistency in federal HAI measurement and reporting efforts. The proposed targets are intended to align with the HAI targets in Healthy People 2020 as well as other Departmental initiatives.

The Steering Committee has provided a template for all acute care hospital HAI targets, which is available at http://www.health.gov/hai/prevent_hai.asp#hai_measures. The template identifies the proposed target or recommended action (i.e., suspension of target) for each of the acute care hospital measures identified in the revised HAI Action Plan.

Interested persons or organizations are invited to submit written comments for each acute care hospital HAI measure. Written feedback should not exceed more than two pages per HAI measure. To be considered, the person or representative from the organization must self-identify and submit the written comments by close of business on March 27, 2014.

Dated: February 19, 2014.
Don Wright,
Deputy Assistant Secretary for Health, Director, Office of Disease Prevention and Health Promotion, Office of the Assistant Secretary for Health.

[FR Doc. 2014-04069 Filed 2-24-14; 8:45 am]

BILLING CODE 4150-32-P